FEDERAL ELECTION COMMISSION

Sunshine Act Notices

AGENCY: Federal Election Commission.

Date and Time: Thursday, November 14, 2002, at 10 a.m.

Place: 999 E Street, NW., Washington, DC (Ninth Floor).

Status: This meeting will be open to the public.

The following item has been withdrawn from the Agenda: Final Audit Report—Campbell for Senate.

Person to Contact for Information: Ron Harris, Press Officer, telephone (202) 694-1220.

Mary W. Dove,
Secretary of the Commission.

[FR Doc. 02-28762 Filed 11-7-02; 12:12 pm]

BILLING CODE 6715-01-M